Title 3—

The President

Proclamation 10388 of April 29, 2022

Jewish American Heritage Month, 2022

By the President of the United States of America

A Proclamation

In 1654, a small ship carrying 23 Jewish refugees sailed into the port of present-day New York City. Fleeing oppression and discrimination, these courageous women and men faced resistance from the colony's leaders. Nevertheless, they secured the right to remain and became the first Jewish communal presence to settle on American soil. In so doing, they expanded the frontier of religious freedoms that would help define the bedrock principles upon which this Nation was built. During Jewish American Heritage Month, we honor these 23 refugees and the centuries of successive generations of Jewish Americans, who—shaped by their own encounters with prejudice, persecution, and the promise of a better tomorrow—have emboldened our Nation to stand up for justice, equality, and freedom.

The story of America was written, in part, by Jewish Americans who, through their words and actions, embraced the opportunity and responsibility of citizenship knowing full well that democracy is not born, nor sustained, by accident. Inspired by Jewish American communal leadership, our Nation's first President pledged that our Government will “give to bigotry no sanction, to persecution no assistance.” Inspired by Jewish American poetry, our shores have welcomed millions with the words “Give me your tired, your poor, your huddled masses yearning to be free.” Throughout our country's history, Jewish Americans have proudly served our Nation in uniform, in elected office, and on our Nation's highest courts. They have made enormous contributions to America's cultural, scientific, artistic, and intellectual life, and they have marched, petitioned, and boarded buses to demand civil and political rights for all—from women's rights to voting rights to workers' rights.

Today, we continue to strive to live up to our founding ideals. As the scourge of white supremacy and antisemitic violence rises, my Administration remains committed to ensuring that hate has no safe harbor. That is why we have created new laws that give us more tools to combat hate crimes; developed the first-ever National Strategy for Countering Domestic Terrorism; provided assistance to religious organizations, places of worship, and nonprofits to protect their facilities and members; and named a new Special Envoy to Monitor and Combat Antisemitism. My Administration will use the full force of our judicial system to confront bigotry and antisemitism wherever and whenever it surfaces.

The Jewish American story, and the story of our Nation as a whole, is fueled by faith, resilience, and hope. It is a story defined by a firm belief in possibilities, the resolve to make real the promise of America for all Americans, and a commitment to perfecting our Union, heeding the timeless words of Rabbi Tarfon, the first-century scholar who taught “It is not your duty to finish the work, but neither are you at liberty to neglect it.”

Three-hundred and sixty-eight years after those 23 brave Jewish refugees arrived in America, Jewish Americans continue to help our country thrive and prosper. This month, we honor the timeless traditions, heritage, and contributions of Jewish Americans that drive our progress as a Nation each and every day.

NOW, THEREFORE, I, JOSEPH R. BIDEN JR., President of the United States of America, by virtue of the authority vested in me by the Constitution and the laws of the United States, do hereby proclaim May 2022 as Jewish American Heritage Month. I call upon all Americans to visit JewishHeritageMonth.gov to learn more about the heritage and contributions of Jewish Americans and to observe this month with appropriate programs, activities, and ceremonies.

IN WITNESS WHEREOF, I have hereunto set my hand this twenty-ninth day of April, in the year two thousand twenty-two, and of the Independence of the United States of America the two hundred and forty-sixth.

[FR Doc. 2022-09869

Filed 5-4-22; 11:15 am]

Billing code 3395-F2-P